DEPARTMENT OF THE INTERIOR

Fish and Wildlife Service

50 CFR Part 17

[Docket No. FWS-R2-ES-2012-0101; 4500030113]

RIN 1018-AY25

Endangered and Threatened Wildlife and Plants; 6-Month Extension of Final Determination for the Proposed Listing of the Zuni Bluehead Sucker as an Endangered Species

AGENCY: Fish and Wildlife Service, Interior.

ACTION: Proposed rule; reopening of comment period.

SUMMARY: We, the U.S. Fish and Wildlife Service (Service), announce a 6-month extension of the deadline for a final determination concerning the listing of the Zuni bluehead sucker (Catostomus discobolus yarrowi) as an endangered species. We also reopen the comment period on the proposed rule to list this species as an endangered species. We are taking this action because there is substantial disagreement regarding the sufficiency or accuracy of the available data relevant to our determination regarding the proposed listing rule, making it necessary to solicit additional information by reopening the comment period for 30 days.

DATES: The comment period end date is February 10, 2014. If you comment using the Federal eRulemaking Portal (see ADDRESSES), you must submit your comment by 11:59 p.m. Eastern Time on the closing date.

ADDRESSES: You may submit written comments by one of the following methods:

(1) Electronically: Go to the Federal eRulemaking Portal: http://www.regulations.gov. In the Search box, enter FWS-R2-ES-2012-0101, which is the docket number for the proposed rule to list the Zuni bluehead sucker as endangered. Then, in the Search panel on the left side of the screen, under the Document Type heading, check on the Proposed Rules link to located the proposed rule. You may submit a comment by clicking on “Comment Now!”

(2) By hard copy: Submit by U.S. mail or hand-delivery to: Public Comments Processing, Attn: FWS-R2-ES-2012-0101; Division of Policy and Directives Management; U.S. Fish and Wildlife Service; 4401 N. Fairfax Drive, MS 2042-PDM; Arlington, VA 22203.

We request that you send comments only by the methods described above. We will post all comments on http://www.regulations.gov. This generally means that we will post any personal information you provide us (see the Public Comments section below for more information).

FOR FURTHER INFORMATION CONTACT: Wally “J” Murphy, Field Supervisor, U.S. Fish and Wildlife Service, New Mexico Ecological Services Field Office, 2105 Osuna NE., Albuquerque, NM 87113; by telephone 505-346-2525; or by facsimile 505-346-2542. Persons who use a telecommunications device for the deaf (TDD) may call the Federal Information Relay Service (FIRS) at 800-877-8339.

SUPPLEMENTARY INFORMATION:

Background

The Zuni bluehead sucker is a small fish that is believed to be endemic to streams in east-central Arizona and west-central New Mexico. On January 25, 2013, we published in the Federal Register a proposed rule (78 FR 5369) to list the Zuni bluehead sucker (Catostomus discobolus yarrowi) as an endangered species under the Endangered Species Act of 1973, as amended (Act; 16 U.S.C. 1531 et seq.), because we found the subspecies in danger of extinction. On the same date, we also published in the Federal Register a proposed rule to designate critical habitat for the Zuni bluehead sucker (78 FR 5351; January 25, 2013). Identified threats to the subspecies included water withdrawals, sedimentation, impoundments, housing development, and predation by nonnative green sunfish (Lepomis cyanellus). We believe the range of the subspecies has already been reduced by approximately 90 percent in New Mexico, but we do not know the extent of potential range reduction in Arizona. Low water levels from drought and water withdrawals in remaining occupied streams have reduced the available habitat for the subspecies. The proposed listing rule had a 60-day comment period, ending March 26, 2013. For a description of previous Federal actions concerning the Zuni bluehead sucker, please refer to the proposed listing rule (78 FR 5369; January 25, 2013). Since the publication of the proposed rules, we have found substantial scientific disagreement about the status of the Zuni bluehead sucker as explained below, and we are therefore reopening the comment period for the proposed listing rule and extending the schedule for the final determination for 6 months in order to solicit and analyze information that will help to clarify these issues.

Section 4(b)(6) of the Act and its implementing regulations at 50 CFR 424.17(a) require that we take one of three actions within 1 year of a proposed listing: (1) Finalize the proposed listing; (2) withdraw the proposed listing; or (3) extend the final determination by not more than 6 months, if there is substantial disagreement regarding the sufficiency or accuracy of the available data relevant to the determination. Our review of the information described below suggests there is substantial disagreement regarding the taxonomic status of some populations that we considered Zuni bluehead sucker in the proposed rule. The following discussion describes these disagreements.

In the proposed listing rule, we reported that the Zuni bluehead sucker has been documented in three discrete watersheds—the Zuni River watershed in New Mexico, the Little Colorado River watershed in Arizona, and the San Juan River watershed at the borders of New Mexico and Arizona. However, the taxonomy of the occurrences of the subspecies outside of the Zuni River watershed has been disputed and remains in question. In the Zuni River watershed of New Mexico, the subspecies is believed to be restricted to three isolated populations in the upper Rio Nutria drainage (Carman 2008, pp. 2-3). Streams in the upper Rio Nutria drainage of the Zuni River watershed include the Rio Nutria, Cebolla Creek, and Rio Pescado, in addition to Tampico Spring and Agua Remora Springs, which are headwater springs to Rio Nutria. In eastern Arizona, there is evidence that the subspecies occurs in low numbers in the Kinlichee Creek area of the Little Colorado River watershed and Canyon de Chelly area of the San Juan River watershed (Hobbes 2000, pp. 9-16; Albert 2001, pp. 10-14; David 2006, p. 35). Both the Kinlichee Creek and Canyon de Chelly areas occur on the Navajo Nation. Streams in the Kinlichee Creek area include Red Clay Wash, Black Soil Springs, Scattered Willow Wash, and Kinlichee Creek itself. Streams in the Canyon de Chelly area include Tsaile Creek, Sonsela Creek, Crystal Creek, Coyote Wash, Whiskey Creek, and Wheatfields Creek. These streams originate along the western slope of the Chuska Mountains in New Mexico, flow through Arizona, and eventually flow into the San Juan River. It is the taxonomic status of these populations in the Kinlichee Creek area of the Little Colorado River watershed and the Canyon de Chelly areas in the San Juan River watershed that is in question. A map for geographical reference is available for review on the New Mexico Ecological Services Field Office Web site at http://www.fws.gov/southwest/es/NewMexico/.

During the public comment period on the proposed listing rule, we received multiple comments regarding our interpretation of scientific literature related to the genetics of the Zuni bluehead sucker. Commenters were particularly concerned with whether or not populations on the Navajo Nation, which include the Kinlichee Creek area of the Little Colorado River watershed and the Canyon de Chelly area of the San Juan River watershed, that were recognized in the proposed rule as Zuni bluehead suckers are appropriately classified as such rather than a different subspecies of the bluehead sucker (see Taxonomy and Genetics section, below). In addition, since the closing of the comment period, we have received additional information and genetic analyses of the bluehead sucker populations found on lands of the Navajo Nation, including both the Kinlichee Creek area and the Canyon de Chelly area (Unmack et al. 2012, entire; Hopken et al. 2013, entire; Douglas et al. 2013, entire). In particular, both the Hopken et al. (2013) and Douglas et al. (2013) reports find that the populations on the Navajo Nation should not be categorized as Zuni bluehead sucker, thereby contradicting the information we presented in the proposed rule. This new information and data, along with input we received during the comment period, have led to substantial scientific disagreement about the status of these populations as explained in more detail below.

In conclusion, section 4(b)(6) of the Act allows the Service to extend the final determination by not more than 6 months, if there is substantial disagreement regarding the sufficiency or accuracy of the available data relevant to the determination. In light of the substantial disagreement regarding the taxonomic status of some populations that we considered Zuni bluehead sucker in the proposed listing rule, we are reopening the comment period for the proposed listing rule and extending the schedule for the final determination for 6 months in order to solicit and analyze information that will help to clarify these issues. We will make a final determination no later than July 25, 2014.

Taxonomy and Genetics

Although there is disagreement regarding where the Zuni bluehead sucker occurs, our review of the available information has concluded that the Zuni bluehead sucker is a valid subspecies. It is believed that the first specimen of the Zuni bluehead sucker was collected from the Zuni River near Zuni Pueblo in McKinley County, New Mexico, in 1873 (Cope 1874, p. 138). The next collection was made in 1926, from the Zuni River, near Zuni Pueblo (Propst et al. 2001, p. 159). It was not subsequently collected in New Mexico until W.J. Koster (University of New Mexico, Museum of Southwestern Biology) collected the species in the Rio Pescado in 1948, and in the Rio Nutria in 1960 (Propst 1999, p. 49; Propst et al. 2001, p. 159).

The Zuni bluehead sucker subspecies is believed to have originated as a hybrid of the Rio Grande sucker (Catostomus plebeius) and the bluehead sucker (C. discobolus) from the Little Colorado River. Historically, the bluehead sucker occurred in streams and rivers in Idaho, Wyoming, Colorado, Arizona, and New Mexico. Gerald R. Smith (University of Michigan) was the first person to provide evidence for the hybrid origin of the Zuni bluehead sucker (Smith 1966, pp. 87-90). Smith (1966, pp. 87-90) and Smith et al. (1983, pp. 37-38) hypothesized that the subspecies resulted from a prehistoric geological event in which two species of sucker that were formerly geographically separated came into contact with one another in the late Pleistocene (which occurred more than 11,700 years ago) and exchanged genes through hybridization over some time. Since collections of Zuni bluehead suckers occurred as early as 1873, Smith (1966, p. 88) discounted that the origin of the subspecies could be a product of human translocation and, instead, proposed that a stream capture occurred causing the two suckers to come into contact. A stream capture is a geomorphological phenomenon occurring when a river drainage system or watershed is diverted from its own bed and flows instead down the bed of a neighboring stream. During this particular stream capture, part of the headwaters of San Jose Creek (a Rio Puerco—Rio Grande tributary where Rio Grande sucker occurred) were brought into the headwaters of the Zuni River (a Little Colorado River tributary where bluehead sucker occurred); this caused Rio Grande suckers from San Jose Creek to intermingle with resident bluehead suckers in the Zuni River (Smith et al. 1983, p. 45). Unmack et al. (2012, p. 29) estimated that the introgression (gene flow from one species into the gene pool of another species) between the Rio Grande sucker and bluehead sucker occurred about 1.1 million years ago based on aging fossils.

In 1983, Smith et al. (entire) formally designated Zuni bluehead sucker as a subspecies. Based on a review of morphological (pertaining to the physical form and structure of the fish), meristic (quantitative features of fish, such as fins or scales), and biochemical genetic data, Smith et al. (1983, pp. 1, 45-47) determined that that the Zuni bluehead sucker subspecies is an intermediate between Rio Grande sucker and bluehead sucker, with the Rio Nutria population (Zuni River watershed) characters (characters are attributes or features that distinguish a subspecies, such as coloration) more like Rio Grande sucker and Kinlichee Creek (Little Colorado River watershed) characters more like bluehead sucker. Based on morphology, they assigned fish samples in Kinlichee Creek (Little Colorado River watershed) as Zuni bluehead suckers and Whiskey Creek fish samples (in the Canyon de Chelly area of the San Juan River watershed) as bluehead suckers. However, Smith et al. (1983, p. 46) could not genetically differentiate Kinlichee Creek samples from Whiskey Creek fish samples. In other words, based on genetics, fish from Kinlichee Creek (Little Colorado River watershed) and Whiskey Creek (in the Canyon de Chelly area of the San Juan River watershed) are the same.

Further study by Crabtree and Buth (1987, p. 843) replicated and expanded upon the Smith et al. (1983, entire) genetic analysis and reevaluated their data and interpretation. This study provided supporting evidence confirming assignment of populations in the Zuni River headwater streams as the Zuni bluehead sucker subspecies based on the presence of unique alleles at several loci (loci are specific locations of a gene or DNA sequence on a chromosome). However, they recognized that Smith et al. (1983, pp. 42, 46) attributed a broader geographical range to the Zuni bluehead sucker. The genetic analysis by Crabtree and Buth (1987, p. 852) did not support the geographical range identified by Smith et al. (1983, pp. 42, 46). Crabtree and Buth (1987, pp. 851-852) suggested that the genetic interaction between the Rio Grande sucker and bluehead sucker is limited to the upper Rio Nutria populations in the Zuni River watershed. Thus, the findings of Crabtree and Buth (1987, entire) suggest that the Zuni bluehead sucker subspecies occurs only in the Zuni River watershed of New Mexico.

Our analysis of morphological and genetic information supports the recognition of the Zuni bluehead sucker as being distinct from both the Rio Grande sucker and the bluehead sucker (Smith 1966, pp. 87-90; Smith et al. 1983, pp. 37-38; Crabtree and Buth 1987, p. 843; Propst 1999, p. 49). Based on our review of the best available scientific and commercial data, we concluded in the proposed listing rule that the Zuni bluehead sucker is a valid subspecies.

Although the Zuni bluehead sucker is a valid taxon, there is substantial disagreement as to which populations of the fish should be assigned to the Zuni bluehead sucker subspecies based on various interpretations of the morphological and genetic analyses. In the discussion below, we review the results of three recent studies related to the evolutionary relationships of the populations we have considered to be Zuni bluehead sucker.

In 2012, Thomas Dowling (a geneticist at Arizona State University) presented the Schwemm and Dowling (2008, entire) data that some bluehead sucker found in the Kinlichee Creek area of the Little Colorado River watershed and the Canyon de Chelly area of the San Juan River watershed also contain Rio Grande sucker alleles, suggesting that these fish may be the result of the introgression between Rio Grande sucker and bluehead sucker described above (Service 2012, entire). Schwemm and Dowling (2008, entire) investigated the extent of introgression of Rio Grande sucker within bluehead sucker within the Little Colorado River drainage (Kinlichee Creek area and Zuni River watershed area) and San Juan River drainage (Canyon de Chelly area) through analysis of both mitochondrial and nuclear DNA sequences. The mitochondrial DNA analysis identified three distinct lineages (ancestry) and one distinct sublineage: (1) Mainstem Colorado River/San Juan River bluehead sucker lineage; (2) Canyon de Chelly bluehead sucker sublineage (in San Juan River watershed); (3) Little Colorado River bluehead sucker lineage; and (4) Rio Grande sucker lineage. The Rio Grande sucker lineage was found in only one upper Little Colorado River population: the Rio Nutria of the Zuni River watershed in New Mexico. However, the nuclear DNA not only identified Rio Grande sucker alleles in the Rio Nutria in New Mexico (consistent with mitochondrial DNA analysis), but also identified Rio Grande sucker alleles in bluehead sucker populations in Black Soil Springs and in Kinlichee Creek as it flows through Bear Canyon (both populations are in the Kinlichee Creek area of the Little Colorado River watershed), and in Wheatfields Creek (in the Canyon de Chelly area of the San Juan River watershed). Therefore, the nuclear DNA analysis presented by Dowling in 2012 suggests that, based on the presence of Rio Grande sucker alleles (via nuclear DNA), the Zuni bluehead sucker subspecies occurs in certain streams of all three watersheds: the Zuni River watershed, the Little Colorado River watershed, and the San Juan River watershed.

Unmack et al. (2012, p. 20) assigned Zuni bluehead sucker to a complex (group of related species) of ancient Arizona and New Mexico lineages that share molecular, meristic, and osteological (osteology is the study of bone structure and function) characteristics of bluehead sucker and Rio Grande sucker. Their study included populations found in the headwaters of the San Juan and Little Colorado Rivers (including the Zuni River headwaters) in northeastern Arizona. This assignment was based on the information provided above (Smith 1966, entire; Smith et al. 1983, entire; Crabtree and Buth 1987, entire; Schwemm and Dowling 2008, entire). Their assignment suggests that the Zuni bluehead sucker subspecies originated from three separate but adjacent drainages (San Juan River, Little Colorado River, and the Rio Grande) in the Pleistocene via multiple stream captures. Therefore, the Zuni bluehead sucker subspecies is not restricted to the headwaters of the Zuni River watershed, but includes others areas in the Little Colorado River (Kinlichee Creek area) and San Juan River drainages (Canyon de Chelly area).

Hopken et al. (2013, entire) published a paper after the publication of the proposed listing rule that evaluates bluehead suckers rangewide using both mitochondrial and nuclear DNA to infer evolutionarily significant units and management units. These researchers looked at 39 sampling locations; however, only 2 (Canyon de Chelly in the San Juan River watershed and Agua Remora in the Zuni River watershed) were relevant to the Zuni bluehead sucker. The mitochondrial DNA only detected bluehead sucker haplotypes (combination of alleles at adjacent locations on a chromosome) in Canyon de Chelly (San Juan River watershed in Arizona) and Agua Remora (Zuni River watershed in New Mexico). Results are consistent with the Schwemm and Dowling (2008, pp. 7-10) mitochondrial DNA analysis of the fish in the Kinlichee Creek area of the Little Colorado River watershed and the Canyon de Chelly area of the San Juan River watershed, both of which are located within the Navajo Nation. Similar results were concluded for both Agua Remora and Tampico Springs in the Zuni River watershed of New Mexico (Turner and Wilson 2009, p. 8). Conversely, the nuclear DNA (via microsatellites) analyses by both Schwemm and Dowling (2008, entire) and Turner and Wilson (2009, p. 8) found alleles related to both bluehead and Rio Grande suckers, albeit in low frequency for Agua Remora and Tampico Springs in the Zuni River watershed of New Mexico. Note that these results were based on one specific microsatellite, whereas the Hopken et al. (2013, entire) nuclear DNA test analyzed 16 different microsatellites to identify levels of introgression with other species of suckers known to hybridize with bluehead suckers (e.g., Rio Grande sucker) and tested distinctiveness of the bluehead sucker across several drainages. Hopken et al. (2013, p. 966) did not find fish in the Canyon de Chelly area of the San Juan River watershed or in Agua Remora of the Zuni River watershed to be introgressed and, therefore, concluded that fish from both sampling locations belonged to the bluehead sucker species of the Colorado River rather than the Zuni bluehead sucker subspecies. Canyon de Chelly in the Little Colorado River watershed and Agua Remora in the Zuni River watershed were both identified to have distinct gene pools from one another and other bluehead suckers (Hopken et al. 2013, p. 966). In other words, the Hopken et al. (2013, entire) paper indicates that the populations in the Little Colorado River watershed and Zuni River watershed are geographically isolated and reflect low gene flow. These results are in disagreement with the results of the nuclear DNA analysis provided by Dowling in his 2012 presentation of the Schwemm and Dowling (2008, entire) report.

Despite their analysis of the Canyon de Chelly populations (San Juan River watershed) of bluehead suckers, Hopken et al. (2013, entire) did not analyze the Kinlichee Creek populations within the Little Colorado River watershed in Arizona. In cooperation with the Navajo Nation, the Service collected additional genetic tissue samples for analysis in 2013. Douglas et al. (2013, entire) used these additional genetic tissue samples to expand upon the Hopken et al. (2013, entire) paper results, applying the same methods. The results of the mitochondrial DNA analysis by Douglas et al. (2013, pp. 19-20) were very similar to Hopken et al. (2013) for samples within the Navajo Nation (Kinlichee Creek area of the Little Colorado River watershed and Canyon de Chelly area of the San Juan River watershed), except a third bluehead sucker haplotype was identified and the Rio Grande sucker haplotype was present in Rio Nutria in the Zuni River watershed in New Mexico. This is consistent with Schwemm and Dowling (2008, entire). As in Hopken et al. (2013, p. 966), Douglas et al. (2013, pp. 15-16) evaluated levels of introgression with other species of suckers known to hybridize with bluehead sucker (e.g., Rio Grande suckers) and tested for distinctiveness between the Zuni River watershed populations and populations in the Little Colorado River watershed and the San Juan River watershed, and they compared the results with other drainages of the Colorado River Basin (Colorado River in the Grand Canyon and Upper Colorado River areas in Utah, Colorado, and Wyoming). No introgression was detected with any other suckers, except for samples from Rio Nutria, which exhibited genotypes of a mixed origin consistent with the subspecies assignment. These results suggest that the Zuni bluehead sucker is restricted to the Zuni River watershed. In addition to Hopken et al. (2013, entire), Douglas et al. (2013, p. 16) identified one more population of bluehead suckers that constitutes a unique gene pool (Kinlichee Creek in the Little Colorado River watershed). These combined results conclude that bluehead suckers from the headwaters of the Little Colorado River watershed (Zuni River area where the Zuni bluehead sucker recognized subspecies occurs and Kinlichee Creek area) and the San Juan River watershed (Canyon de Chelly area) are distinct from each other and any other bluehead suckers within the species' range.

Since the publication of the proposed rule to list the Zuni bluehead sucker as an endangered species (78 FR 5369; January 25, 2013), there has been substantial disagreement regarding whether the bluehead suckers found within the Kinlichee Creek area of the Little Colorado River watershed and the Canyon de Chelly area of the San Juan River watershed are appropriately characterized as Zuni bluehead suckers. This has led to substantial disagreement regarding the current range of the subspecies in Arizona and New Mexico.

As illustrated by the above discussion, the best available scientific information is unclear as to which populations of fish should be attributed to the Zuni bluehead sucker subspecies. Some studies support that Zuni bluehead sucker subspecies occurs only in the Rio Nutria within the Zuni River watershed in New Mexico (Crabtree and Buth 1987,entire; Hopken et al. 2013, entire; Douglas et al. 2013, entire), whereas other studies support that Zuni bluehead sucker is also found in the Kinlichee Creek area of the Little Colorado River watershed and the Canyon de Chelly areas of the San Juan River watershed (Smith et al. 1983, entire; Schwemm and Dowling 2008, entire; Unmack et. al. 2012, p. 20). All of the literature discussed in this document and a map for geographical reference is available for review on the New Mexico Ecological Services Field Office Web site at http://www.fws.gov/southwest/es/NewMexico/.

As discussed earlier, section 4(b)(6) of the Act and its implementing regulations at 50 CFR 424.17(a) require that we take one of three actions within 1 year of a proposed listing: (1) Finalize the proposed listing; (2) withdraw the proposed listing; or (3) extend the final determination by not more than 6 months, if there is substantial disagreement regarding the sufficiency or accuracy of the available data relevant to the determination. Therefore, in consideration of the substantial disagreements surrounding the Zuni bluehead sucker's taxonomic status in some locations, we are extending the final determination for 6 months in order to solicit and analyze additional information that will help to clarify these issues. Consequently, our final determination on the critical habitat designation for the Zuni bluehead sucker will be also delayed until we make a final listing determination for this subspecies. Therefore, we will make a final determination on the proposed listing rule no later than July 25, 2014.

Public Comments

We will accept written comments and information during this reopened comment period on our proposed listing for the Zuni bluehead sucker that was published in the Federal Register on January 25, 2013 (78 FR 5369). We will consider information and recommendations from all interested parties. We intend that any final action resulting from the proposals be as accurate as possible and based on the best available scientific and commercial data.

In consideration of the disagreements surrounding the data used to support the proposed rulemaking, we are extending the final determination for 6 months in order to solicit information that will help to clarify these issues. In addition to the information requested in the proposed listing rule, we are particularly interested in new information and comments regarding:

(1) The historical and current status and distribution of the Zuni bluehead sucker, its biology and ecology, specific threats (or lack thereof) and regulations that may be addressing those threats, and ongoing conservation measures for the subspecies and its habitat.

(2) Whether or not the populations in the Kinlichee Creek area of the Little Colorado River watershed and the Canyon de Chelly area of the San Juan River watershed should be considered the Zuni bluehead sucker subspecies.

(3) Additional information relevant to the genetic analysis of Zuni bluehead sucker populations.

(4) Additional information relevant to the morphology of Zuni bluehead sucker populations.

(5) Information regarding genetic disagreements related to other suckers or similar species of fish that could be used as a surrogate to better understand the genetics of Zuni bluehead sucker

(6) An explanation for the apparent discrepancy between nuclear DNA analyses. We are seeking clarification to explain the presence of Rio Grande sucker alleles by using a singular microsatellite marker (Schweem and Dowling 2008) whereas 16 different microsatellites did not detect any Rio Grande sucker alleles (Douglas et al. 2013).

(7) An explanation for the overlap in morphological characteristics in Smith et al. (1983, entire) where he assigned bluehead suckers in Kinlichee Creek (the Little Colorado River watershed) as Zuni bluehead sucker.

If you previously submitted comments or information on the proposed listing rule, please do not resubmit them. We have incorporated them into the public record, and we will fully consider them in the preparation of our final determination. Our final determination concerning this proposed listing will take into consideration all written comments and any additional information we receive.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R2-ES-2012-0101, or by appointment, during normal business hours, at the U.S. Fish and Wildlife Service, New Mexico Ecological Services Field Office (see FOR FURTHER INFORMATION CONTACT). You may obtain copies of the proposed rule on the Internet at http://www.regulations.gov at Docket No. FWS-R2-ES-2012-0101, or by mail from the New Mexico Ecological Services Field Office (see FOR FURTHER INFORMATION CONTACT).

References Cited

A complete list of references cited and a geographical reference map in this rulemaking is available on the Internet at http://www.regulations.gov and http://www.fws.gov/southwest/es/NewMexico/ and upon request from the New Mexico Ecological Services Field Office (see FOR FURTHER INFORMATION CONTACT).

Authority

The authority for this action is the Endangered Species Act of 1973, as amended (16 U.S.C. 1531 et seq.).

Dated: December 30, 2013.
Stephen Guertin,
Acting Director, Fish and Wildlife Service.

[FR Doc. 2014-00164 Filed 1-8-14; 8:45 am]

BILLING CODE 4310-55-P